DEPARTMENT OF THE INTERIOR

Bureau of Land Management

[SDM 99842]

Public Land Order No. 7821; Withdrawal of National Forest System Land for Steamboat Rock Picnic Grounds; South Dakota

AGENCY: Bureau of Land Management, Interior.

ACTION: Public Land Order.

SUMMARY: This order withdraws on behalf of the United States Forest Service, 50 acres of National Forest System land from location and entry under the United States mining laws for a period of 20 years to protect the recreational uses and improvements at the Steamboat Rock Picnic Grounds within the Black Hills National Forest in South Dakota.

DATES: Effective Date: September 24, 2013.

FOR FURTHER INFORMATION CONTACT: Valerie Hunt, United States Forest Service, Region 2, 740 Simms Street, Golden, Colorado, 303-275-5071, vbhunt@fs.fed.us, or Tami Lorenz, Bureau of Land Management, Montana State Office, 5001 Southgate Drive, Billings, Montana 59101-4669, 406-896-5053, tlorenz@mt.blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: This order replaces expired Public Land Order No. 6689 (53 FR 47955) which withdrew the same land to the United States Forest Service to protect the recreational uses and improvements within the Steamboat Rock Picnic Grounds.

Order

By virtue of the authority vested in the Secretary of the Interior by Section 204 of the Federal Land Policy and Management Act of 1976, 43 U.S.C. 1714, it is ordered as follows:

1. Subject to valid existing rights, the following described National Forest System land is hereby withdrawn from location and entry under the United States mining laws, but not from leasing under the mineral leasing laws, to protect the recreational uses and improvements within the Steamboat Rock Picnic Grounds:

Black Hills National Forest

Black Hills Meridian

T. 2 N., R. 5 E.,

sec. 1, S½NW¼SW¼, N½SW¼SW¼, and NW¼SE¼SW¼.

The area described contains 50 acres in Lawrence County.

2. The withdrawal made by this order does not alter the applicability of those public land laws governing the use of National Forest System land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: September 9, 2013.
Rhea S. Suh,
Assistant Secretary—Policy, Management and Budget.

[FR Doc. 2013-23152 Filed 9-23-13; 8:45 am]

BILLING CODE 3410-11-P